SOCIAL SECURITY ADMINISTRATION

Agency Information Collection Activities: Proposed Request, Comment Request, Notice of Office of Management and Budget Approval

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA. Fax: 202-395-6974.

(SSA), Social Security Administration, DCFAM, Attn: Reports Clearance Officer, 1333 Annex Building, 6401 Security Blvd., Baltimore, MD 21235. Fax: 410-965-6400.

I. The information collections listed below are pending at SSA and will be submitted to OMB within 60 days from the date of this notice. Therefore, your comments should be submitted to SSA within 60 days from the date of thispublication. You can obtain copies of the collection instruments by calling the SSA Reports Clearance Officer at 410-965-0454 or by writing to the address listed above.

1. Application for Widow's or Widower's Insurance Benefits—20 CFR 404.335-404.338, 404.603—0960-0004. SSA uses the information collected on the SSA-10-BK to determine whether the applicant meets the statutory and regulatory conditions for entitlement to widow(er)'s Social Security Title II benefits. The respondents are applicants for widow's or widower's insurance benefits.

Type of Request: Extension of an OMB-approved information collection.

Collection method | Number of respondents | Estimated completion time | Burden hours
Personal Interview (Modernized Claims System) | 324,482 | 14-15 minutes | 78,416
Paper | 17,078 | 15 minutes | 4,270
Totals | 341,560 |  | 82,686

2. Waiver of Right to Appear-Disability Hearing—20 CFR 404.913-404.914, 404.916(b)(5), 416.1413-416.1414, 416.1416(b)(5)—0960-0534. The SSA-773-U4 is used by claimants or their representatives to officially waive the right to appear at a disability hearing. The disability hearing officer uses the signed form as a basis for not holding a hearing and for preparing a written decision based solely on the evidence of the record. The respondents are claimants for disability under Titles II and XVI of the Social Security Act, or their representatives, who wish to officially waive their right to appear at a disability hearing.

Type of Request: Extension of an OMB-approved information collection.

Number of Respondents: 200.

Frequency of Response: 1.

Average Burden per Response: 3 minutes.

Estimated Annual Burden: 10 hours.

3. Childhood Disability Evaluation Form—20 CFR 416.924(g)—0960-0568. The information collected on the SSA-538-F6 is used by SSA and the State Disability Determination Services (DDSs) to record medical and functional findings concerning the severity of impairments of children claiming Supplemental Security Income (SSI) benefits based on disability. The SSA-538-F6 is used for initial determinations of SSI eligibility; appeals; and in initial continuing disability reviews. The respondents are DDSs which make disability determinations on behalf of SSA under Title XVI of the Social Security Act.

Type of Request: Extension of an OMB-approved information collection.

Number of Respondents: 750,000.

Frequency of Response: 1.

Average Burden per Response: 25 minutes.

Estimated Annual Burden: 312,500 hours.

4. Medical Consultant's Review of Physical Residual Functional Capacity Assessment—20 CFR 404.1545-.1546, 404.1640, 404.1643, 404.1645, 416.945-.946—0960-0680. The SSA-392 is used by SSA's regional review component to facilitate the medical consultant's review of the Physical Residual Functional Capacity Assessment form (RFC). The SSA-392 records the reviewing medical consultant's assessment of the RFC prepared by the adjudicating component. The medical consultant only completes an SSA-392 when the adjudicating component's RFC is in the claims file. The SSA-392 is required for each RFC completed. Respondents are medical consultants who review the adjudicating component's completion of the RFC for quality purposes.

Type of Request: Extension of an OMB-approved information collection.

Number of Respondents: 256.

Frequency of Response: 359.

Number of Responses: 91,904.

Average Burden per Response: 12 minutes.

Estimated Annual Burden: 18,380 hours.

5. You Can Make Your Payment By Credit Card—0960-0462. The SSA-4588 and SSA-4589 are used by SSA to update an individual's record to reflect that a payment has been made on their overpayment and to effectuate payment through the appropriate credit card company. The SSA-4588 is sent to overpaid individuals with an initial notice of overpayment, and the SSA-4589 is sent to overpaid individuals who have been previously notified of their debt. The SSA-4588 is sent out only once to the debtor, with the official first notice of overpayment, while the SSA-4589 is sent on a monthly basis until the debt is repaid. Respondents are Title II beneficiaries and Title XVI recipients who have outstanding overpayments.

Type of Request: Extension of an OMB-approved information collection.

Number of Respondents: 60,000.

Frequency of Response: 1.

Average Burden per Response: 5 minutes.

Estimated Annual Burden: 5,000 hours.

6. Continuing Education Information Collection under Non-Attorney Demonstration Project—0960-NEW. Section 303 of the Social Security Protection Act of 2004 (SSPA) provides for a 5-year demonstration project to be conducted by SSA under which the direct payment of SSA approved fees is extended to certain non-attorney claimant representatives. Under the demonstration project, to be eligible for direct payment of fees, a non-attorney representative must fulfill a series of statutory requirements. One of these steps is to demonstrate completion of relevant continuing education courses. Through the services of a private contractor, SSA must collect the requested information to determine if a non-attorney representative has met this statutory requirement to be eligible for direct payment of fees for his or her claimant representation services. The information collection is needed to comply with the legislation. The respondents are non-attorney representatives who apply for direct payment of fees.

Type of Request: Collection in use without OMB number.

Number of Respondents: 300.

Frequency of Response: 1.

Average Burden Per Response: 30 minutes.

Estimated Annual Burden: 150 hours.

II. The information collection listed below has been submitted to OMB for clearance. Your comments on the information collection would be most useful if received by OMB and SSA within 30 days from the date of this publication. You can obtain a copy of the OMB clearance package by calling the SSA Reports Clearance Officer at 410-965-0454, or by writing to the address listed above.

Instructions for Completion of Federal Assistance Application—0960-0184. The information on Form SSA-96 will be used to assist SSA in selecting grant proposals for funding based on their technical merits. The information will also assist in evaluating the soundness of the design of the proposed activities, the possibilities of obtaining productive results, the adequacy of resources to conduct the activities and the relationship to other similar activities that have been or are being conducted. The respondents are State and local governments, State-designated protection and advocacy groups, colleges and universities and profit and nonprofit private organizations.

Type of Request: Extension of an OMB-approved information collection.

Number of Respondents: 400.

Frequency of Response: 2.

Average Burden Per Response: 14 hours.

Estimated Annual Burden: 11,200 hours.

III. Notice of Office of Management and Budget Approval

Administrative Review Process for Adjudicating Disability, Parts 404, 405, 416 and 422. As required by the Paperwork Reduction Act, SSA is providing notice of the Office of Management and Budget's approval of the information collections contained in 20 CFR parts, 404, 416 and 422. The OMB number for this collection is 0960-0710, expiring March 31, 2009.

Dated: June 6, 2006.
Elizabeth A. Davidson,
Reports Clearance Officer, Social Security Administration.

[FR Doc. E6-9146 Filed 6-12-06; 8:45 am]

BILLING CODE 4191-02-P